ENVIRONMENTAL PROTECTION AGENCY

[ER-FRL-9050-1]

Environmental Impact Statements; Notice of Availability

Responsible Agency: Office of Federal Activities, General Information 202-564-5632 or https://www.epa.gov/nepa.

Weekly receipt of Environmental Impact Statements (EIS) Filed March 16, 2020, 10 a.m. EST Through March 23, 2020, 10 a.m. EST Pursuant to 40 CFR 1506.9.

Section 309(a) of the Clean Air Act requires that EPA make public its comments on EISs issued by other Federal agencies. EPA's comment letters on EISs are available at: https://cdxnodengn.epa.gov/cdx-enepa-public/action/eis/search.

EIS No. 20200071, Final, UDOT, UT, I-15 Milepost 11 Interchange, Contact: Elisa Albury 801-834-5284. Pursuant to 23 U.S.C. 139(n)(2), UDOT has issued a single FEIS and ROD. Therefore, the 30-day wait/review period under NEPA does not apply to this action.

EIS No. 20200072, Final, DOE, AK, ADOPTION—Alaska LNG Project, Contact: Brian Lavoie 202-586-2489. The Department of Energy (DOE) has adopted the Federal Energy Regulatory Commission's Final EIS No. 20200066, filed 3/9/2020 with the EPA. DOE was a cooperating agency on this project. Therefore, recirculation of the document is not necessary under Section 1506.3(c) of the CEQ regulations.

EIS No. 20200073, Final, USACE, CT, Westchester County Streams, Byram River Basin Flood Risk Management Feasibility Study—Final Integrated Feasibility Report & Environmental Impact Statement, Review Period Ends: 04/27/2020, Contact: Kimberly Rightler 917-790-8722.

EIS No. 20200074, Final, BLM, AK, Ambler Road Final Environmental Impact Statement, Review Period Ends: 04/27/2020, Contact: Tina McMaster-Goering 907-271-1310.

Amended Notice

EIS No. 20200068, Draft, NMFS, MA, Northeast Multispecies Fishery Management Plan Draft Amendment 23, Comment Period Ends: 05/22/2020, Contact: Mark Grant 978-281-9145. Revision to FR Notice Published 3/20/2020; Extending the Comment Period from 5/19/2020 to 5/22/2020.

Dated: March 23, 2020.
Cindy S. Barger,
Director, NEPA Compliance Division, Office of Federal Activities.

[FR Doc. 2020-06410 Filed 3-26-20; 8:45 am]

BILLING CODE 6560-50-P